FEDERAL COMMUNICATIONS COMMISSION

Public Information Collections Approved by Office of Management and Budget

January 27, 2005.

SUMMARY: The Federal Communications Commission (FCC) has received Office of Management and Budget (OMB) approval for the following public information collections pursuant to the Paperwork Reduction Act of 1995 (PRA), Public Law 104-13. An agency may not conduct or sponsor and a person is not required to respond to a collection of information unless it displays a currently valid control number.

In the 800 MHz Report and Order the Commission adopted certain information collection requirements and third party disclosures as part of its plan to abate interference to public safety communications, such as those of police, fire and emergency medical agencies. The information collection requirements and third-party disclosures will be used by the Commission to ensure that licensees of certain 800 MHz Commercial Mobile Radio Service systems abate interference to the reception of signals from public safety, Critical Infrastructure Industry (CII), and certain other 800 MHz communications systems.

In a separate document published in the Final Rules section of this issue, the Commission also announces that the information collection requirements adopted in the 800 MHz Report and Order are effective upon publication of the aforementioned document in the Federal Register. A summary of the 800 MHz Report and Order was published in the Federal Register on November 22, 2004, 68 FR 67823. The summary stated that, with the exception of rules requiring OMB approval, the rules adopted in the 800 MHz Report and Order would become effective January 21, 2005. With regard to rules requiring OMB approval, the Commission stated it will publish a document in the Federal Register announcing the effective date of these rules. With publication of the aforementioned document in the Final Rules section, all rules adopted in the 800 MHz Report and Order are effective.

The Commission obtained emergency clearance of the information collections adopted in the 800 MHz Report and Order pursuant to 5 CFR 1320.13(a)(2)(i) and waiver of the notice and comment provisions of 5 CFR 1320.8(d) and 1320.5(a)(iv). As a result, OMB approval for these requirements will expire June 30, 2005. The Commission will establish a period for public comment on these PRA matters before submitting its request for regular, three-year OMB approval of these collections.

FOR FURTHER INFORMATION CONTACT: John Evanoff, Federal Communications Commission, 445 12th Street, SW., Washington DC, 20554, (202) 418-0680 or via the Internet at jevanoff@fcc.gov. For additional information concerning the Paperwork Reduction Act information collection requirements, contact Judith B. Herman at (202) 418-0214.

SUPPLEMENTARY INFORMATION: OMB Control No.: 3060-1080.

OMB Approval Date: 1/27/2005.

Expiration Date: 6/30/2005.

Title: Improving Public Safety Communications in the 800 MHz Band.

Form No.: N/A.

Estimated Annual Burden: 2,500 responses; 27,162 total annual burden hours; 3-8 hours average per respondent.

Needs and Uses: Cellular Radiotelephone (Cellular) and Enhanced Mobile Radio Service (ESMR) licensees, jointly, must establish an electronic means of information collection in order to receive interference complaints and promptly resolve them. Whenever an interference problem presents a clear and imminent danger to life or property, there is an information collection requirement that allows the affected public safety licensee to state, in writing, the basis for such determination. This statement must be filed with the Commission and served upon any offending licensee(s). A Cellular or ESMR carrier that receives an initial notification of interference must respond and prepare a written interference analysis. This information collection is necessary to promptly identify the source of and abate interference.

Certain information collection requirements are designed to forestall activation of facilities that have the potential to create unacceptable interference to public safety communications. Thus, Cellular and ESMR licensees must apprise public safety entities of changes to the operating parameters of Cellular and ESMR systems and the public safety licensees have a reciprocal obligation to apprise Cellular and ESMR licensees of the operating parameters of 800 MHz public safety communications systems. This information collection requirement is necessary to identify and address potential interference before it occurs.

In the 800 MHz Report and Order, the Commission established a Transition Administrator. The Commission authorized the Transition Administrator to obtain certain information from certain 800 MHz licensees in order to facilitate 800 MHz band reconfiguration. Licensees must provide the Transition Administrator with the estimated cost of reconfiguring their systems. The Transition Administrator must then make this information available to the Commission upon request. Some information will be exchanged between certain 800 MHz licensees and Nextel Communications, Inc., with copies thereof submitted to the Transition Administrator. The Transition Administrator must apprise the Commission of the progress of band reconfiguration by means of reports which, among other things, contain certifications by 800 MHz incumbent licensees that relocation has been completed and that parties agree on the costs encountered and the amounts received. The Transition Administrator must submit a written record to the Commission of any dispute the Transition Administrator has been unable to resolve. The foregoing information collections are necessary to facilitate relocation negotiations and execution of relocation agreements in a timely manner and is integral to the Commission's overall band reconfiguration plan to eliminate interference to public safety operations. Without these information collection requirements, it would not be practical to abate interference in the manner, and on the schedule, necessary to timely abate potentially life threatening interference to CII and public safety systems.

Federal Communications Commission.
Marlene H. Dortch,
Secretary.

[FR Doc. 05-2422 Filed 2-7-05; 8:45 am]

BILLING CODE 6712-01-P